UNIFIED CARRIER REGISTRATION PLAN

Sunshine Act Meetings

TIME AND DATE: September 4, 2025, 12:00 p.m. to 3:00 p.m., EDT

PLACE: The meeting will be accessible via conference call and via Zoom Meeting and Screenshare. Any interested person may call (i) 1-929-205-6099 (US Toll) or 1-669-900-6833 (US Toll), Meeting ID: 985 7165 9695, to listen and participate in this meeting. The website to participate via Zoom Meeting and Screenshare is https://kellen.zoom.us/meeting/register/m6r6eP88TUe6fP6Z7N9HWg.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Legal Counsel

UCR Legal Counsel will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢Board actions taken only in designated areas on the agenda

IV. Possible Renewal of Contracts for Compliance Specialists at Seikosoft and DSL Transportation Services, Inc.—UCR Board Chair, UCR Legal Counsel

For Discussion and Possible Board Action

The UCR Board Chair and UCR Legal Counsel will discuss possible renewal of the current contracts with Seikosoft (for 2 FTEs) and DSL Transportation Services, Inc. (for 2 FTEs), for compliance specialists expiring on September 30, 2025. The Board may take action to approve the renewal of the contracts on terms and conditions approved by the Board.

V. Possible Renewal of Contract With the UCR Executive Director—UCR Board Chair, UCR Legal Counsel

For Discussion and Possible Board Action

The UCR Board Chair and UCR Legal Counsel will discuss possible renewal of the current contract with the UCR Executive Director expiring on October 31, 2025. The Board may take action to approve the renewal of the contract on terms and conditions approved by the Board.

VI. Possible Renewal of Contract With Kellen—UCR Board Chair, UCR Legal Counsel

For Discussion and Possible Board Action

The UCR Board Chair and UCR Legal Counsel will discuss possible renewal of the UCR Plan's contract with Kellen for an additional one-year term as provided in the UCR Plan's current contract with Kellen. The Board may take action to exercise the option to renew the current UCR Plan contract with Kellen for an additional one-year period under such terms provided under the current contract.

VII. Other Business—UCR Board Chair

The UCR Board Chair will call for any other business, old or new, from the floor.

VIII. Adjournment—UCR Board Chair

The UCR Board Chair will adjourn the meeting.

The agenda will be available no later than 5:00 p.m. Eastern daylight time, August 27, 2025, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2025-16745 Filed 8-28-25; 11:15 am]

BILLING CODE 4910-YL-P